SMALL BUSINESS ADMINISTRATION

Region II Buffalo District Advisory Council; Public Meeting

AGENCY: U.S. Small Business Administration.

ACTION: Notice of open federal advisory committee meeting.

SUMMARY: The SBA is issuing this notice to announce the location, date, time, and agenda for the next meeting of the Region II Buffalo District Advisory Council. The meeting will be open to the public.

DATES: The meeting will be held on April 18, 2012 from approximately 9:30 a.m. to 11:30 a.m. Eastern Standard Time.

ADDRESSES: The meeting will be held at the Transit Valley Country Club, 8920 Transit Road, East Amherst, New York 14051.

SUPPLEMENTARY INFORMATION: Pursuant to section 10(a)(2) of the Federal Advisory Committee Act (5 U.S.C., Appendix 2), SBA announces the meeting of the Region II Buffalo District Advisory Council. The Region II Buffalo District Advisory Council is tasked with providing information of public interest.

The purpose of the meeting is so the council can provide advice and opinions regarding the effectiveness of and need for SBA programs, particularly the local districts which members represent. The agenda will include: district office, SBA programs and services, government contracting, disaster updates, lending activity reports, small business week, event announcements, and roundtable discussion on small business issues.

FOR FURTHER INFORMATION CONTACT: The meeting is open to the public however advance notice of attendance is requested. Anyone wishing to attend and/or make a presentation to the Region II Buffalo District Advisory Council must contact Franklin J. Sciortino, district director, Buffalo district office by April 13, by fax or email in order to be placed on the agenda. Franklin J. Sciortino, District Director, Buffalo District Office, U.S. Small Business Administration, 540 Niagara Center, 130 S. Elmwood Avenue, Buffalo, New York 14202; telephone (716) 551-4301 or fax (716) 551-4418.

Additionally, if you need accommodations because of a disability or require additional information, please contact Kelly Lotempio, EDS/PIO, Buffalo District Office, U.S. Small Business Administration, 540 Niagara Center, 130 S. Elmwood Avenue, Buffalo, New York 14202; telephone (716) 551-4301, kelly.lotempio@sba.gov or fax (716) 551-4418.

For more information on SBA, please visit our Web site at www.sba.gov.

Dated: March 26, 2012.
Dan Jones,
Committee Management Officer.

[FR Doc. 2012-8324 Filed 4-5-12; 8:45 am]

BILLING CODE P